POSTAL SERVICE

39 CFR Parts 221, 222, 223, 224, 225, 226, 227, 228, and 229

General Organization, Delegations of Authority, Relationships and Communication Channels

AGENCY: Postal Service.

ACTION: Final rule.

SUMMARY: This rule amends the Postal Service regulations on general organization, delegations of authority, and relationships and communication channels to bring these regulations into line with the Postal Service's current organizational structure. It also removes several obsolete parts from the subchapter dealing with organization and administration.

EFFECTIVE DATE: August 31, 2004.

FOR FURTHER INFORMATION CONTACT: Stanley F. Mires, (202) 268-2958.

SUPPLEMENTARY INFORMATION: Revision of parts 221 through 223 is necessary to reflect structural and other changes that have occurred in the Postal Service since the last major amendments to these parts in 1989 (54 FR 29707). In addition, successive internal restructurings of the Postal Service have made parts 224 through 229 obsolete. Rather than revise these parts, which presented an unnecessarily detailed functional description of the managerial units formerly contained in the Postal Service, the decision has been made to remove them. Exhaustive information concerning postal administrative topics is contained in the Postal Service's Administrative Support Manual (ASM). The ASM is available for inspection at the U.S. Postal Service Library, 475 L'Enfant Plaza West, S.W., Washington, DC 20260-1641. The ASM is also available for sale to the public through the Topeka Material Distribution Center, 500 SW Montana Pkwy, Topeka, KS 66624-9995, telephone 1-800-332-0317. A concise statement of the organization of the Postal Service can be found in the United States Government Manual, published by the Office of the Federal Register, National Archives and Records Administration.

This rule is a change in agency rules of organization that does not substantially affect any rights or obligations of private parties. Therefore, it is appropriate for its adoption by the Postal Service to become effective immediately.

List of Subjects in 39 CFR Parts 221, 222, 223, 224, 225, 226, 227, 228, and 229

Organization and functions (Government agencies).

For the reasons set forth above, the Postal Service amends 39 CFR chapter I as follows:

1. Parts 221, 222, and 223 are revised to read as follows:

PART 221—GENERAL ORGANIZATION

Sec.
221.1 The United States Postal Service.
221.2 Board of Governors.
221.3 Office of Inspector General.
221.4 Corporate officers.
221.5 Headquarters organization.
221.6 Field organization.
221.7 Postal Service emblem.

Authority: 39 U.S.C. 201, 202, 203, 204, 207, 401(2), 402, 403, 404, 409, 1001; Inspector General Act of 1978 (Pub. L. 95-452), 5 U.S.C. App. 3.

§ 221.1 The United States Postal Service.

The United States Postal Service was established as an independent establishment within the executive branch of the government of the United States under the Postal Reorganization Act of August 12, 1970 (Pub. L. 91-375, 84 Stat. 719).

§ 221.2 Board of Governors.

(a) Composition. The Board of Governors consists of 11 members. Nine governors are appointed by the President of the United States, by and with the advice and consent of the Senate. Not more than five governors may be adherents of the same political party. The governors are chosen to represent the public interest generally, and they may not be representatives of specific interests using the Postal Service. The governors may be removed only for cause. The postmaster general and the deputy postmaster general are also voting members of the Board of Governors.

(b) Responsibilities. The Board of Governors directs the exercise of the powers of the Postal Service, reviews the practices and policies of the Postal Service, and directs and controls its expenditures.

§ 221.3 Office of Inspector General.

(a) Establishment. The Office of Inspector General (OIG) was established as an independent law enforcement and oversight agency for the United States Postal Service under the Inspector General Act of 1978 (5 U.S.C. App. 3), as amended in 1988 (Pub. L. 100-504, 102 Stat. 2515) and 1996 (Pub. L. 104-208, 110 Stat. 3009).

(b) Responsibilities. The OIG was established to:

(1) Provide an independent and objective unit to conduct and supervise audits and investigations relating to programs and operations of the Postal Service.

(2) Provide leadership and coordination and recommend policies for activities designed to:

(i) Promote economy, efficiency, and effectiveness in the administration of postal programs and operations.

(ii) Prevent and detect fraud and abuse in postal programs and operations.

(3) Provide a means of keeping the governors and Congress fully and currently informed about:

(i) Problems and deficiencies relating to the administration of postal programs and operations.

(ii) The necessity for corrective action.

(iii) The progress of corrective action.

(4) Provide oversight of all activities of the Postal Inspection Service.

(c) Inspector General—(1) Appointment. The inspector general is appointed for a 7-year term by the nine governors.

(2) Responsibilities. The inspector general is responsible for the operations of the OIG: ensuring independent and objective audits and investigations of postal operations and programs; overseeing the Postal Inspection Service; and apprising the governors and Congress of significant observations. The inspector general has no direct responsibility for designing, installing, and/or operating postal operations or programs.

(3) Extent of powers. In addition to the authority otherwise provided by the Inspector General Act of 1978, as amended, the inspector general is authorized to:

(i) Have unrestricted access to all Postal Service operations, programs, records, and documents, whether in custody of the Postal Service or available by law, contract, or regulation.

(ii) Have direct and prompt access to the governors when necessary for any purpose pertaining to the performance of the functions and responsibilities of the OIG.

(iii) Administer oaths when necessary in performance of the functions assigned to the OIG.

(iv) Require by subpoena the production of all information, documents, reports, answers, records, accounts, papers, and other data and documentary evidence necessary in the performance of the functions of the OIG.

(v) Select, appoint, and employ such officers and employees as may be necessary for carrying out the functions, powers, and duties of the OIG.

(vi) Obtain the temporary or intermittent services of experts or consultants in accordance with applicable laws and regulations.

§ 221.4 Corporate officers.

The Board of Governors determines the number of corporate officers and appoints the postmaster general. The governors and the postmaster general appoint the deputy postmaster general. The postmaster general appoints the remaining corporate officers. The corporate officers of the Postal Service are the following:

(a) The postmaster general and chief executive officer.

(b) The deputy postmaster general.

(c) The chief operating officer and executive vice president.

(d) The chief financial officer and executive vice president.

(e) The senior vice presidents.

(f) The general counsel and senior vice president.

(g) The vice presidents.

(h) The chief inspector.

(i) The consumer advocate and vice president.

(j) The judicial officer.

(k) Such other officers as the Board may designate from time to time.

§ 221.5 Headquarters organization.

(a) Postmaster General—(1) Appointment. The postmaster general (PMG), the chief executive officer of the Postal Service, is appointed by and can be removed by a majority of the governors in office.

(2) Responsibilities. The postmaster general is responsible for the overall operation of the Postal Service. The postmaster general determines appeals from the actions of staff and corporate officers, except in cases where he or she has delegated authority to make a decision to a subordinate; such subordinate may also determine appeals within the authority delegated.

(3) Extent of powers. The postmaster general, as directed by the Board of Governors, exercises the powers of the Postal Service to the extent that such exercise does not conflict with power reserved to the Board by law. The postmaster general is authorized to direct any officer, employee, or agent of the Postal Service to exercise such of the postmaster general's powers as the postmaster general deems appropriate.

(b) Deputy Postmaster General. The deputy postmaster general is appointed and can be removed by the postmaster general and the governors in office. The deputy postmaster general reports directly to the postmaster general.

(c) Chief Operating Officer and Executive Vice President. The chief operating officer and executive vice president is appointed by the postmaster general and directs all processing, distribution, and customer service functions.

(d) Officers in charge of Headquarters organizational units. The officers in charge of Headquarters organizational units are appointed by the postmaster general. They report directly to the postmaster general, the deputy postmaster general, an executive vice president, a senior vice president, or another officer, as the postmaster general may direct.

(e) Responsibilities. The corporate officers head the organizational units into which Headquarters and the field are divided. They are responsible for the following:

(1) Program planning, direction, and review.

(2) Establishment of policies, procedures, and standards.

(3) Operational determinations not delegated to district officials.

§ 221.6 Field organization.

(a) General. There are 8 areas, each with a vice president.

(b) Area locations.

Area name | Location
Eastern | Pittsburgh PA.
Great Lakes | Chicago IL.
New York Metro | New York NY.
Northeast | Windsor CT.
Pacific | San Francisco CA.
Southeast | Memphis TN.
Southwest | Dallas TX.
Western | Denver CO.

(c) Area functions. Functional units and reporting units are as follows:

(1) Functional units. Each area is divided into functional units responsible for finance, human resources, marketing, and operations support.

(2) Reporting units. Areas are responsible for:

(i) Customer service districts (CSDs).

(ii) Post offices (POs).

(iii) Vehicle maintenance facilities (VMFs).

(iv) Processing and distribution centers (P&DCs).

(v) Processing and distribution facilities (P&DFs).

(vi) Air mail centers (AMCs).

(vii) Air mail facilities (AMFs).

(viii) Bulk mail centers (BMCs).

(ix) Bulk mail facilities (BMFs).

(x) Remote encoding centers (RECs).

(d) Customer Service District Offices. Functional units and reporting relationships are as follows:

(1) Functional units. The 80 district offices coordinate the day-to-day management of post offices and customer service activities other than processing and distribution within a geographical area. EAS-26 and above postmasters report to their district manager. Each district office is organized into functional units responsible for post office operations, operations programs support, customer service support, finance, human resources, information technology, administrative support, and marketing.

(2) Reporting relationships. Independent delivery distribution centers and post offices level EAS-24 and below report to the functional unit responsible for post office operations.

(e) Support—(1) General. Headquarters field units and service centers provide support for area offices.

(2) Headquarters field units. As assigned, Headquarters field units are responsible for legal services, corporate relations, human resources, facility services, finance, information technology, and supply management.

§ 221.7 Postal Service emblem.

The Postal Service emblem, which is identical with the seal, is registered as a trademark and service mark by the U.S. Patent Office. Except for the emblem on official stationery, the emblem must bear one of the following notations: “Reg. U.S. Pat. Off.”, “Registered in U.S. Patent Office”, or the letter R enclosed within a circle.

PART 222—DELEGATIONS OF AUTHORITY

Sec.
222.1 Authority to administer postal affairs.
222.2 Authority to administer oaths or function as notaries public.
222.3 Other delegation.

Authority: 39 U.S.C. 201, 202, 203, 204, 207, 401(2), 402, 403, 404, 409, 1001, 1011; Inspector General Act of 1978 (Pub. L. 95-452), 5 U.S.C. App. 3.

§ 222.1 Authority to administer postal affairs.

(a) The Postmaster General. The postmaster general has been authorized by the Board of Governors to exercise the powers of the Postal Service to the full extent that such exercise is lawful. The postmaster general is empowered to authorize any employee or agent of the Service to exercise any function vested in the Postal Service, in the postmaster general, or in any other Postal Service employee.

(b) Corporate officers. Corporate officers are authorized to exercise the powers and functions of the Postal Service under the Postal Reorganization Act with respect to matters within their areas of responsibility, except as limited by law or by the specific terms of their assignment.

(c) General counsel. The general counsel is authorized to settle federal tort claims under section 2672 of title 28, United States Code, up to $100,000.

§ 222.2 Authority to administer oaths or function as notaries public.

(a) Authority to approve personnel actions and administer oaths of office for employment. The postmaster general, corporate officers, and their delegatees are authorized to effect appointments, administer oaths of office for employment, and take other personnel actions.

(b) Authority to administer oaths other than for employment. The following are authorized to administer oaths concerning matters other than employment:

(1) Postal inspectors, with regard to any matter coming before them in the performance of their official duties;

(2) Any member of a board who is assigned to conduct hearings or investigations in which sworn testimony, affidavits, or depositions are required, and each officer or employee assigned to conduct such hearings or investigations;

(3) Postmasters, where required in the performance of their official duties.

(c) Authority to function as notaries public. (1) Postmasters in Alaska have the authority to administer oaths and affirmations, take acknowledgments and make and execute certificates thereof, and perform all other functions of a notary public within Alaska when a certification is necessary to meet any Act of Congress or the Legislature of Alaska. No fees may be charged for notarial services.

(2) An officer or employee who is a notary public shall not charge or receive compensation for notarial services for another officer or employee regarding Government business; nor for notarial services for any person during the hours of the notary's services to the Government, including the lunch period.

§ 222.3 Other delegation.

(a) Documentation. All delegations of authority must be officially documented.

(b) Position title. Delegations of authority must ordinarily be made by position title rather than by name of the individual involved. An officer or executive acting for a principal has the principal's full authority.

(c) Level. When authority is delegated to an officer, the officers above that officer shall have the same authority. Delegated authority does not extend to aides unless an aide is acting for the supervisor (see paragraph (b) of this section) or is specifically authorized by the superior to exercise such authority.

(d) Agreement with law. A delegation must agree with the law and regulations under which it is made and contain such specific limiting conditions as may be appropriate.

(e) Further delegation. Authority may be further delegated unless prohibited by law, a regulation that expressly prohibits further delegation, or terms of the delegation.

PART 223—RELATIONSHIPS AND COMMUNICATION CHANNELS

Sec.
223.1 Headquarters and areas.
223.2 Channels of communication, headquarters with area offices.

Authority: 39 U.S.C. 201, 202, 203, 204, 207, 401(2), 402, 403, 404.

§ 223.1 Headquarters and areas.

Headquarters provides policy guidance, procedures, and interpretation to area officials.

§ 223.2 Channels of communication, headquarters with area offices.

(a) General. Headquarters organizational units formulate the directives to provide guidance to area officials.

(b) Policies. Policies are issued over the signatures of the vice presidents of the functional organizations (unless the postmaster general or deputy postmaster general issues these directives personally). Whether published on paper or online, such policies must be coordinated with other appropriate organizations before issuance, and reviewed, published, and managed by Public Affairs and Communications. If within the authority of the issuer, these policies have the same effect as though sent by the postmaster general or deputy postmaster general.

(c) Procedures. Regulations, instructions, and implementation guidelines are issued over the signatures of vice presidents of functional organizations or their accountable functional unit managers and used to implement programs and business activities. Whether published on paper or online, such procedures must be coordinated with other appropriate organizations before issuance and reviewed, published, and managed by Public Affairs and Communications.

PARTS 224, 225, 226, 227, 228, AND 229—[REMOVED]

2. Parts 224, 225, 226, 227, 228, and 229 are removed.

Stanley F. Mires,
Chief Counsel, Legislative.

[FR Doc. 04-19782 Filed 8-30-04; 8:45 am]

BILLING CODE 7710-12-P